MORRIS K. UDALL SCHOLARSHIP AND EXCELLENCE IN NATIONAL ENVIRONMENTAL POLICY FOUNDATION

The United States Institute for Environmental Conflict Resolution; Agency Information Collection Activities: Submission for OMB Review; Comment Request; U.S. Institute for Environmental Conflict Resolution, Application for the National Roster of Dispute Resolution and Consensus Building Professionals: Sub-Roster of Transportation Mediators & Facilitators

AGENCY: Morris K. Udall Scholarship and Excellence in National Environmental Policy Foundation, U.S. Institute for Environmental Conflict Resolution.

ACTION: Notice.

SUMMARY: In compliance with the Paperwork Reduction Act and supporting regulations, this document announces that the U.S. Institute for Environmental Conflict Resolution (the Institute), part of the Morris K. Udall Foundation, has forwarded to the Office of Management and Budget (OMB) the following Information Collection Request (ICR): National Roster of Environmental Dispute Resolution and Consensus Building Professionals: Sub-Roster of Transportation Mediators & Facilitators. The ICR describes the nature of the information collection, its expected burden and costs, the need for the transportation sub-roster, the information to be recorded, the entry criteria for applicants who wish to be listed, and a sample of the actual data collection instrument (the application.) The sub-roster application will not be available until all Paperwork Reduction Act requirements are met. The Institute published a Federal Register notice on January 31, 2001 at 66 FR 8432, to solicit public comments for a 60-day period. The Institute received no public comments. The purpose of this notice is to allow an additional 30 days for public comments on this information collection.

DATES: Comments must be submitted on or before May 14, 2001.

ADDRESSES: Direct comments to: Office of Information and Regulatory Affairs, Office of Management and Budget (OMB), Attention: Amy Farrell, Desk Officer for The Morris K. Udall Scholarship and Excellence in National Environmental Policy Foundation, U.S. Institute for Environmental Conflict Resolution 725 17th Street NW, Washington, DC 20503.

FOR FURTHER INFORMATION CONTACT: For further information or a copy of the ICR, contact: Joan C. Calcagno, Roster Manager, U.S. Institute for Environmental Conflict Resolution, 110 South Church Avenue, Suite 3350, Tucson, Arizona 85701, Fax: 520-670-5530, Phone: 520-670-5299, E-mail: roster@ecr.gov.

SUPPLEMENTARY INFORMATION:

A. Title for the Collection of Information

Application for National Roster of Environmental Dispute Resolution and Consensus Building Professionals: Sub-Roster of Transportation Mediators & Facilitators.

B. Potentially Affected Persons

You are potentially affected by this action if you are a dispute resolution professional with experience related to environmental reviews of transportation projects and you wish to be listed on the National Roster of Environmental Dispute Resolution and Consensus Building Professionals: Sub-Roster of Transportation Mediators & Facilitators.

C. Questions to Consider in Making Comments

The U.S. Institute for Environmental Conflict Resolution requests your comments to any of the following questions related to collecting information for the Sub-Roster of Transportation Mediators & Facilitators:

(1) Is the proposed sub-roster application (“collection of information”) necessary for the proper performance of the functions of the agency, including whether the information will have practical utility?

(2) Is the agency's estimate of the time spent completing the application (“burden of the proposed collection of information”) accurate, including the validity of the methodology and assumptions used?

(3) Can you suggest ways to enhance the quality, utility, and clarity of the information collected?

(4) Can you suggest ways to minimize the burden of the collection of information on those who are to respond, including through the use of appropriate automated electronic, mechanical, or other technological collection techniques or other forms of information technology?

D. Abstract

The U.S. Institute for Environmental Conflict Resolution plans to collect information from environmental dispute resolution professionals with experience in transportation cases who desire to become members of a roster of neutrals from which agencies may select providers of neutral services. The proposed transportation roster is being established as part of the U.S. Department of Transportation's Guidance on Dispute Resolution, to provide resources for neutral assistance in connection with environmental reviews of transportation projects.

Responses to the collection of information (the application) are voluntary, but required to obtain a benefit (listing on the Sub-Roster of Transportation Mediators & Facilitators.) An agency may not conduct or sponsor, and a person is not required to respond to, a collection of information unless it displays a currently valid OMB control number.

Background Information: U.S. Institute for Environmental Conflict Resolution The U.S. Institute for Environmental Conflict Resolution was created in 1998 by the Environmental Policy and Conflict Resolution Act (P.L. 105-156). The Institute is located in Tucson, Arizona and is part of the Morris K. Udall Foundation, an independent agency of the executive branch of the federal government. The Institute's primary purpose is to provide impartial, non-partisan assistance to federal and non-federal parties. The Institute provides assistance in seeking agreement or resolving disputes through use of mediation and other collaborative, non-adversarial means regarding environmental, natural resources, and public lands issues involving a federal interest. The Institute accomplishes most of its work by partnering or contracting with, or referral to, experienced practitioners.

The Need for and Proposed Use of the Information Collected in the Application for the Sub-Roster of Transportation Mediators and Facilitators The environmental streamlining section of the Transportation Equity Act for the 21st Century (TEA-21) (P.L. 105-178, as amended 105-206) was created by Congress in response to undue delays in completing transportation projects and directs federal agencies to coordinate environmental reviews of transportation projects. Many of the delays were a result of unresolved disputes among agencies in the review process. Thus, a key part of environmental streamlining is managing conflict when it develops. Through discussions with federal and state transportation and environmental agencies, the Federal Highway Administration (FHWA) (an agency in the U.S. Department of Transportation) identified the need for an efficient, effective alternative dispute resolution (ADR) system. The FHWA contracted with the Institute to provide assistance in designing and implementing an ADR system. The system has been designed to prevent and resolve disputes among federal and state transportation, natural resource, and environmental regulatory agencies. It is designed to address conflicts over specific issues that arise under the National Environmental Policy Act (NEPA) process, that is, the preparation of Environmental Assessments or Environmental Impact Statements for specific projects, or determining whether Categorical Exemptions apply. It also applies to reviews for potential impacts on historical and archeological resources, and to reviews associated with permits that some projects require, such as dredge and fill permits from the Army Corps of Engineers (under Section 404 of the Clean Water Act).

The Sub-Roster of Transportation Mediators & Facilitators (“sub-roster”) is part of the ADR system. Interviews with numerous federal and state agency representatives, who are potential users of the system, identified the need for professional third-party assistance. The sub-roster provides agencies with one source from which to find experienced neutrals to facilitate negotiations and to help resolve disputes. Agency personnel will use the sub-roster primarily to find facilitators or mediators experienced in preventing and resolving disputes that arise during environmental reviews of transportation projects. Agencies may also look to the sub-roster for such services as conflict assessment, process design, or related professional advice in these same issues.

In order for the sub-roster to be an efficient and effective part of the environmental streamlining ADR system, it must provide agency personnel seeking assistance specific information related to the third-party neutral's experience with environmental reviews of transportation projects. The Institute operates the National Roster of Environmental Dispute Resolution and Consensus Building Professionals (“roster”), which has existed since February 2000. (The roster application is open and continuous and available on Institute's website: www.ecr.gov.) Sub-roster applications will be submitted by those practitioners who are already, or will become, members of the roster. The information already collected through the roster application process is not specific enough to allow all roster members with this particular experience to be identified. Collection of specific information relating to transportation experience will expedite the identification of appropriate neutrals.

The sub-roster information, instructions and application will be available from the Institute's website as a PDF document. The application gathers the information necessary to determine whether the applicant meets the entry criteria and gathers some additional information important to selecting appropriate practitioner candidates for the particular situation. Information will be entered on the application online, similarly to common computerized word processing. It will then be printed out and mailed in. The applicant can also save the application electronically for purposes of updating or revision. Hardcopy applications will be available by request to the Institute. Sub-roster members' names and locations will be tracked and searchable in an electronic database maintained by the Institute. Agencies will be able to request assistance in identifying appropriate practitioners by contacting the Institute Roster Manager.

The draft Sub-Roster Application is attached to the ICR.

E. Burden Statement

This ICR compiles data available from the resumes of most mediators and facilitators with experience in environmental reviews of transportation projects into a format that is standardized and easily accessible for use in making referrals. The application will be submitted only by members of the National Roster of Environmental Dispute Resolution and Consensus Building Professionals, who will have familiarity with providing this type of information as a result of applying for membership; the roster application is filled out and submitted online and is more detailed. Sub-roster applicants will need to complete the sub-roster application only once. They will be able to update their information on a voluntary basis. The burden includes time spent to: (1) review the entry criteria, definitions, instructions and application; (2) access current (within the last ten years) information about their experience with environmental reviews of transportation projects; and (3) enter the information on the form, print it and mail it.

Burden means the total time, effort, or financial resources expended by persons to generate, maintain, retain, or disclose or provide information to or for a Federal agency. This includes the time needed to review instructions; develop, acquire, install, and utilize technology and systems for the purpose of collecting, validating, and verifying information, processing and maintaining information, and disclosing and providing information and transmitting information.

Likely Respondents: Current and future members of the National Roster of Environmental Dispute Resolution and Consensus Building Professionals.

Estimated Number of Respondents (first year): 80.

Estimated Number of New Respondents (per year for succeeding year): 10.

Proposed Frequency of Response: one, with voluntary update.

Respondent Time Burden Estimates

Estimate Time per Response: 2.33 hours.

Estimated Number of Updates: 1, for approximately half of previous respondents.

Estimated Time for Update: .25 hours.

Estimated Total First Year Burden: 187 hours (2.33 × 80 respondents).

Estimated Total Second Year Burden: 33 hours (23 hours for 10 new respondents + 10 hours for updates by 40 previous respondents).

Estimated Total Third Year Burden: 34.25 hours (23 hours for 10 new respondents + 11.25 hours for updates by 45 previous respondents).

Respondent Cost Burden Estimates

It is not anticipated that there will be capital or start-up costs (respondents will use the same computer equipment to access the sub-roster application as was used for their National Roster of ECR Practitioner application or respondents can request an application by phone or mail; applications are submitted through US Postal Service.)

Authority: 20 U.S.C. Sec. 5601-5609.

Dated the 9th day of April, 2001.
Christopher L. Helms,
Executive Director, Morris K. Udall Foundation.

[FR Doc. 01-9157 Filed 4-12-01; 8:45 am]

BILLING CODE 6820-FN-P